DEPARTMENT OF HOMELAND SECURITY

Federal Emergency Management Agency

[Docket ID: FEMA-2019-0026; OMB No. 1660-0069]

Agency Information Collection Activities: Proposed Collection; Comment Request; National Fire Incident Reporting System (NFIRS) v5.0

AGENCY: Federal Emergency Management Agency, Department of Homeland Security.

ACTION: 30-Day reinstatement notice and request for comments.

SUMMARY: The Federal Emergency Management Agency (FEMA), as part of its continuing effort to reduce paperwork and respondent burden, invites the general public to take this opportunity to comment on a reinstatement, without change, of a previously approved information collection for which approval has expired. FEMA will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 19, 2021.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or William Troup, Chief, United States Fire Administration-National Fire Data Center, (301) 447-1231.

SUPPLEMENTARY INFORMATION: The National Commission on Fire Prevention and Control conducted a comprehensive study of the Nation's fire problem and recommended to Congress actions to mitigate the fire problem, reduce loss of life and property, and educate the public on fire protection and prevention. As a result of the study, Congress enacted Public Law 93-498, the Federal Fire Prevention and Control Act of 1974, which establishes the U.S. Fire Administration (USFA) to administer fire prevention and control programs, supplement existing programs of research, training, and education, and encourage new and improved programs and activities by state and local governments. Section 9(a) of the Act authorizes the USFA Administrator to operate directly or through contracts or grants, an integrated, comprehensive method to select, analyze, publish, and disseminate information related to prevention, occurrence, control, and results of fires of all types.

The National Fire Incident Reporting System (NFIRS) was established in the mid-1970s and is mandated by the Federal Fire Prevention and Control Act of 1974 (Pub. L. 93-498, as amended) which authorizes the National Fire Data Center to gather and analyze information such as (1) the frequency, causes, spread, and extinguishment of fires; (2) injuries and deaths resulting from fires; (3) information on injuries sustained by a firefighter; and (4) information on firefighting activities. The act further authorizes USFA to develop uniform data reporting methods, and to encourage and assist Federal, state, local and other agencies in developing and reporting information. NFIRS is a reporting standard that fire departments use to uniformly report on the full range of their activities, from fire to emergency medical services to severe weather and natural disasters. This reporting allows fire departments, as well as many other government and non-government agencies, to quantify their actions and identify incident and response trends. This information collection expired on April 30, 2019. FEMA is requesting a reinstatement, without change, of a previously approved information collection for which approval has expired. The purpose of this notice is to notify the public that FEMA will submit the information collection abstracted below to the Office of Management and Budget for review and clearance.

This proposed information collection previously published in the Federal Register on November 27, 2019, at 84 FR 65401 with a 60 day public comment period. One comment related to barns and their potential to catch fire due to poor building materials was received. This program office's response to the comment was that they received this comment in 2019 and that the comment is irrelevant as barn fires already can be currently reported through NFIRS by system users which are local fire departments. Changing building codes is not a direct purpose of this system.

Collection of Information

Title: National Fire Incident Reporting System (NFIRS) v5.0.

Type of information collection: Reinstatement, without change, of a previously approved information collection for which approval has expired.

OMB Number: OMB No. 1660-0069.

Form Titles and Numbers: The National Fire Incident Reporting System (NFIRS) v5.0 Modules 1-11.

Abstract: NFIRS provides a mechanism using standardized reporting methods to collect and analyze fire incident data at the Federal, state, and local levels. Data analysis helps local fire departments and states to focus on current problems, predict future problems in their communities, and measure whether their programs are working.

Affected Public: State, Local or Tribal, and Federal Government.

Estimated Number of Respondents: 23,500.

Estimated Number of Responses: 28,059,000.

Estimated Total Annual Burden Hours: 12,626,550.

Estimated Total Annual Respondent Cost: $530,693,897.

Estimated Respondents' Operation and Maintenance Costs: $1,974,000.

Estimated Respondents' Capital and Start-Up Costs: $1,128,000.

Estimated Total Annual Cost to the Federal Government: $3,386,107.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-05648 Filed 3-18-21; 8:45 am]

BILLING CODE 9111-76-P